FEDERAL ELECTION COMMISSION

Sunshine Act Meeting

FEDERAL REGISTER CITATION NOTICE OF PREVIOUS ANNOUNCEMENT: 84 FR 4465.

PREVIOUSLY ANNOUNCED TIME AND DATE OF THE MEETING: Wednesday, February 20, 2019 at 10:00 a.m. and its continuation at the conclusion of the open meeting on February 21, 2019.

CHANGES IN THE MEETING: This meeting has been cancelled.

CONTACT PERSON FOR MORE INFORMATION: Judith Ingram, Press Officer, Telephone: (202) 694-1220.

Laura E. Sinram,
Deputy Secretary of the Commission.

[FR Doc. 2019-03248 Filed 2-21-19; 11:15 am]

BILLING CODE 6715-01-P